SECURITIES AND EXCHANGE COMMISSION

[Release No. 34-62671; File No. SR-NYSEAmex-2010-81]

Self-Regulatory Organizations; Notice of Filing and Immediate Effectiveness of Proposed Rule Change by NYSE Amex LLC Amending its Fee Schedule

August 9, 2010.

Pursuant to Section 19(b)(1) of the Securities Exchange Act of 1934 (“Act”) ¹ and Rule 19b-4 thereunder,² notice is hereby given that, on August 4, 2010, NYSE Amex LLC. (“NYSE Amex” or the “Exchange”) filed with the Securities and Exchange Commission (“SEC” or “Commission”) the proposed rule change as described in Items I and II below, which Items have been prepared by the Exchange. The Commission is publishing this notice to solicit comments on the proposed rule change from interested persons.

¹ 15 U.S.C. 78s(b)(1).

² 17 CFR 240.19b-4.

I. Self-Regulatory Organization's Statement of the Terms of Substance of the Proposed Rule Change

The Exchange proposes to establish a new participant category for purposes of the fee schedule and to modify the fees for Firm executions. The text of the proposed rule change is attached as Exhibit 5 to the 19b-4 form. A copy of this filing is available on the Exchange's Web site at http://www.nyse.com, at the Exchange's principal office, on the Commission's Web site at http://www.sec.gov, and at the Commission's Public Reference Room.

II. Self-Regulatory Organization's Statement of the Purpose of, and Statutory Basis for, the Proposed Rule Change

In its filing with the Commission, the self-regulatory organization included statements concerning the purpose of, and basis for, the proposed rule change and discussed any comments it received on the proposed rule change. The text of those statements may be examined at the places specified in Item IV below. The Exchange has prepared summaries, set forth in sections A, B, and C below, of the most significant parts of such statements.

A. Self-Regulatory Organization's Statement of the Purpose of, and Statutory Basis for, the Proposed Rule Change

1. Purpose

The Exchange is proposing to establish a new participant category for purposes of the fee schedule. Presently, the Exchange makes no distinction between Broker/Dealers who clear in the customer range and Broker/Dealers who clear in the market maker range. Broker/Dealers who clear in the market maker range are registered market makers at other exchanges and accordingly will be identified on the fee schedule as Non-NYSE Amex Option Market Makers.³

³ The term “Non-NYSE Amex Options Market Maker” means a market maker as defined in Section 3(a)(38) of the Securities and Exchange Act of 1934 registered in the same option class on another exchange.

The Exchange will assess Non-NYSE Amex Option Market Makers a fee of $.40 per contract for all electronic executions. The fee for Non-NYSE Amex Option Market Maker orders executed manually will be $.25 per contract. The Exchange notes that the $.40 per contract rate is comparable to or less than the rate charged by other exchanges for transactions by market makers who are registered as such in the same options on another exchange.⁴

⁴ See the ISE fee schedule dated July 1, 2010. The ISE charges Non-ISE Market Makers a $.45 per contract charge for electronic executions.

Presently the Exchange charges for manual executions that clear in the Firm range according to a tiered schedule. At this time the Exchange intends to revert back to the pricing that was in effect previously for manual executions that clear in the Firm range. The tiered pricing will be replaced with a fixed per contract fee of $0.25 for all manual executions that clear in the Firm range. Additionally, the Exchange intends to no longer charge for any Firm Facilitations, which are defined as trades that clear in the Firm range (clearance account “F”) and customer on the contra (clearance account “C”) with the same clearing Firm symbol on both sides of the trade.

These changes are intended to be effective immediately for all transactions beginning August 4, 2010.

2. Statutory Basis

The Exchange believes that the proposed rule change is consistent with the provisions of Section 6(b) of the Act,⁵ in general, and Section 6(b)(4) of the Act,⁶ in particular, in that it is designed to provide for the equitable allocation of reasonable dues, fees, and other charges among its members and other persons using its facilities. The Exchange has determined, as part of an ongoing review of its operations, that the proposed changes to the fee schedule are necessary in the interests of better allocating the costs of operating the Exchange in a fair and equitable manner, taking into account that NYSE Amex Options market makers incur additional costs that Non-NYSE Amex Options market makers who do transactions here do not incur.

⁵ 15 U.S.C. 78f(b).

⁶ 15 U.S.C. 78f(b)(4).

B. Self-Regulatory Organization's Statement on Burden on Competition

The Exchange does not believe that the proposed rule change will impose any burden on competition that is not necessary or appropriate in furtherance of the purposes of the Act.

C. Self-Regulatory Organization's Statement on Comments on the Proposed Rule Change Received From Members, Participants, or Others

No written comments were solicited or received with respect to the proposed rule change.

III. Date of Effectiveness of the Proposed Rule Change and Timing for Commission Action

The foregoing rule change is effective upon filing pursuant to Section 19(b)(3)(A) ⁷ of the Act and subparagraph (f)(2) of Rule 19b-4 ⁸ thereunder, because it establishes a due, fee, or other charge imposed by NYSE Amex.

⁷ 15 U.S.C. 78s(b)(3)(A).

⁸ 17 CFR 240.19b-4(f)(2).

At any time within 60 days of the filing of the proposed rule change, the Commission summarily may temporarily suspend such rule change if it appears to the Commission that such action is necessary or appropriate in the public interest, for the protection of investors, or otherwise in furtherance of the purposes of the Act.

IV. Solicitation of Comments

Interested persons are invited to submit written data, views, and arguments concerning the foregoing, including whether the proposed rule change is consistent with the Act. Comments may be submitted by any of the following methods:

Electronic Comments

• Use the Commission's Internet comment form (http://www.sec.gov/rules/sro.shtml); or

• Send an e-mail to rule-comments@sec.gov. Please include File Number SR-NYSEAmex-2010-81 on the subject line.

Paper Comments

• Send paper comments in triplicate to Elizabeth M. Murphy, Secretary, Securities and Exchange Commission, 100 F Street, NE., Washington, DC 20549-1090.

All submissions should refer to File Number SR-NYSEAmex-2010-81. This file number should be included on the subject line if e-mail is used. To help the Commission process and review your comments more efficiently, please use only one method. The Commission will post all comments on the Commission's Internet Web site (http://www.sec.gov/rules/sro.shtml). Copies of the submission, all subsequent amendments, all written statements with respect to the proposed rule change that are filed with the Commission, and all written communications relating to the proposed rule change between the Commission and any person, other than those that may be withheld from the public in accordance with the provisions of 5 U.S.C. 552, will be available for Web site viewing and printing in the Commission's Public Reference Room, 100 F Street, NE., Washington, DC 20549, on official business days between the hours of 10 a.m. and 3 p.m. Copies of the filing also will be available for inspection and copying at the principal office of the Exchange. All comments received will be posted without change; the Commission does not edit personal identifying information from submissions. You should submit only information that you wish to make available publicly. All submissions should refer to File Number SR-NYSEAmex-2010-81 and should be submitted on or before September 7, 2010.

For the Commission, by the Division of Trading and Markets, pursuant to delegated authority.⁹
⁹ 17 CFR 200.30-3(a)(12).
Florence E. Harmon,
Deputy Secretary.

[FR Doc. 2010-20150 Filed 8-13-10; 8:45 am]

BILLING CODE 8010-01-P